DEPARTMENT OF LABOR

Occupational Safety and Health Administration

[Docket No. NRTL1-88, NRTL1-889, NRTL1-90, NRTL1-90, NRTL1-90, NRTL2-92, NRTL3-92, NRTL1-93, NRTL2-93, NRTL3-93, NRTL4-94, NRTL1-98, NRTL1-99, NRTL1-2001, NRTL2-2001]

Modify Scope of Recognition of NRTLs

AGENCY: Occupational Safety and Health Administration (OSHA), Labor.

ACTION: Notice.

SUMMARY: This notice modifies the scope of recognition of certain Nationally Recognized Testing Laboratories (NRTLs) primarily as a result of the withdrawal of certain test standards by the standards developing organizations.

EFFECTIVE DATE: March 8, 2005.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION:

Notice of Changes

The Occupational Safety and Health Administration (OSHA) hereby gives notice of changes to the scope of recognition of the Nationally Recognized Testing Laboratories (NRTLs) listed below. Specifically, some of the test standards that OSHA currently includes in the scope of recognition of these NRTLs are no longer “appropriate test standards” primarily because they have been withdrawn or replaced. As a result, we are deleting them from the scope of recognition of each affected NRTL, as detailed below in this notice. The test standards to be removed for each NRTL are listed below under the heading “Withdrawn or Replaced Standards.”

To substitute other test standards for those being removed, our policy permits NRTLs to request or OSHA to provide recognition for comparable test standards, i.e., other appropriate test standards covering comparable product testing. If applicable, we list such test standards below for each NRTL under the heading “Comparable Replacement Standards.” As indicated below, many test standards being deleted have no comparable replacement. However, if any NRTL or other party believes a comparable replacement standard does in fact exist, it may contact OSHA to bring this matter to our attention. If we concur, OSHA will add the standard to the scope of recognition of the affected NRTLs.

The modifications in this notice will be reflected in the listing of test standards shown in our informational Web page for each NRTL, which detail OSHA's official scope of recognition for the NRTL. These Web pages can be accessed at http://www.osha.gov/dts/otpca/nrtl/index.httml.

Brief Background on OSHA's NRTL Requirements

For those who may be unfamiliar with OSHA requirements concerning NRTLs, we provide the following information.

OSHA recognition of any NRTL signifies that the organization has met the legalrequirements in section 1910.7 of title 29, Code of Federal Regulations (29 CFR 1910.7). Recognition is an acknowledgment that the organization can perform independent safeaty testing and certification of the specific products covered within its scope of recognition and is not a delegation or grant of government authority. As a result of recognition, employers may use products “properly certified” by the NRTL to meet OSHA standards that require testsing and certification.

In testing and certifying (i.e., approving) such products, NRTLs must demonstrate that the products conform to “appropriate test standards.” This term is defined under 29 CFR 1910.7(c) and essentially means consensus-based product safety test standards developed and maintained current by U.S.-based standards developing organizations (SDOs). Such test standards are not OSHA standards, which are general requirements that employers must meet, but, individually, specify technical safety requirements that a particular type of product must meet.

OSHA recognizes each NRTL for a particular scope of recognition, which includes a list of those product safety test standards that the NRTL may use in approving products. As a normal part of its operations, an SDO occasionally withdraws existing test standards or adopts replacement test standards. In such cases, OSHA can no longer consider the withdrawn or replaced standards as “appropriate,” and as a result, the Agency can no longer recognize NRTLs for these standards.

Details of Scope Modifications

Canadian Standards Association (CSA)

(Docket No. NRTL2-92)

Withdrawn or Replaced Standards

ANSI Z21.12 Draft Hoods

ANSI Z21.45 Flexible Connectors of Other Than All-Metal Construction for Gas Appliances

ANSI Z21.61 Gas-Fired Toilets

ANSI Z83.6 Gas-Fired Infrared Heaters

UL 1418 Cathode-Ray Tubes

UL 1459 Telephone Equipment

*UL 1950 Information Technology Equipment, Including Electrical Business Equipment

UL 2601-1 Medical Electrical Equipment, Part 1: General Requirements for Safety

Comparable Replacement Standards (if applicable)

UL 60601-1 Medical Electrical Equipment, Part 1: General Requirements for Safety

Communication Certification Laboratory (CCL)

(Docket No. NRTL1-90)

Withdrawn or Replaced Standards

UL 1459 Telephone Equipment

*UL 1950 Information Technology Equipment, Including Electrical Business Equipment

Comparable Replacement Standards (if applicable)

None

Curtis-Straus LLC (CSL)

(Docket No. NRTL1-99)

Withdrawn or Replaced Standards

UL 1459 Telephone Equipment

*UL 1950 Information Technology Equipment, Including Electrical Business Equipment

UL 2601-1 Medical Electrical Equipment, Part 1: General Requirements for Safety

Comparable Replacement Standards (if applicable)

UL 60601-1 Medical Electrical Equipment, Part 1: General Requirements for Safety

Entela, Inc. (ENT)

(Docket No. NRTL2-93)

Withdrawn or Replaced Standards

UL 1418 Cathode-Ray Tubes

UL 1459 Telephone Equipment

*UL 1950 Information Technology Equipment, Including Electrical Business Equipment

UL 2601-1 Medical Electrical Equipment, Part 1: General Requirements for Safety

Comparable Replacement Standards (if applicable)

UL 60601-1 Medical Electrical Equipment, Part 1: General Requirements for Safety

FM Global Technologies LLC (FMGT) [formerly Factory Mutual Research Corporation]

(Docket No. NRTL3-93)

Withdrawn or Replaced Standards

*UL 1950 Information Technology Equipment, Including Electrical Business Equipment

***FM 7812 Industrial Trucks—LP-Gas

***FM 7816 Industrial Trucks—LP-Gas Dual Fuel

***FM 7820 Industrial Trucks—Electric

Comparable Replacement Standards (if applicable)

None

Intertek Testing Services NA, Inc. (ITSNA)

(Docket No. NRTL1-89)

Withdrawn or Replaced Standards

ANSI Z21.1b Household Cooking Gas Appliances

ANSI Z21.12 Draft Hoods

ANSI Z21.45 Flexible Connectors of Other than All-Metal Construction for Gas Appliances

ANSI Z21.61 Gas-Fired Toilets

ANSI Z83.6 Gas-Fired Infrared Heaters

**UL9 Fire Tests of Window Assemblies

UL 1418 Cathode-Ray Tubes

UL 1459 Telephone Equipment

*UL 1950 Information Technology Equipment, Including Electrical Business Equipment

UL 2601-1 Medical Electrical Equipment, Part 1: General Requirements for Safety

Comparable Replacement Standards (if applicable)

UL 60601-1 Medical Electrical Equipment, Part 1: General Requirements for Safety

MET Laboratories, Inc. (MET)

(Docket No. NRTL1-88)

Withdrawn or Replaced Standards

UL 1459 Telephone Equipment

*UL 1950 Information Technology Equipment, Including Electrical Business Equipment

UL 2601-1 Medical Electrical Equipment, Part 1: General Requirements for Safety

Comparable Replacement Standards (if applicable)

UL 60601-1 Medical Equipment, Part 1: General Requirements for Safety

National Technical Systems, Inc. (NTS)

(Docket No. NRTL1-98)

Withdrawn or Replaced Standards

UL 1459 Telephone Equipment

*UL 1950 Information Technology Equipment, Including Electrical Business Equipment

UL 2601-1 Medical Electrical Equipment, Part 1: General Requirements for Safety

Comparable Replacement Standards (if applicable)

UL 60601-1 Medical Equipment, Part 1: General Requirements for Safety

SGS U.S. Testing Company, Inc. (SGSUS)

(Docket No. NRTL2-90)

Withdrawn or Replaced Standards

UL 1418 Cathode-Ray Tubes

UL 1459 Telephone Equipment

*UL 1950 Information Technology Equipment, Including Electrical Business Equipment

UL 2601-1 Medical Electrical Equipment, Part 1: General Requirements for Safety

Comparable Replacement Standards (if applicable)

UL 60601-1 Medical Electrical Equipment, Part 1: General Requirements for Safety

Southwest Research Institute (SWRI)

(Docket No. NRTL3-90)

Withdrawn or Replaced Standards

*UL 1950 Information Technology Equipment, Including Electrical Business Equipment

Comparable Replacement Standards (if applicable)

None

TUV America, Inc. (TUVAM)

(Docket No. NRTL2-2001)

Withdrawn or Replaced Standards

*UL 1950 Information Technology Equipment, Including Electrical Business Equipment

UL 2601-1 Medical Electrical Equipment, Part 1: General Requirements for Safety

Comparable Replacement Standards (if applicable)

UL 60601-1 Medical Electrical, Part 1: General Requirements for Safety

TUV Product Services GmbH (TUVPSG)

(Docket No. NRTL1-2001)

Withdrawn or Replaced Standards

UL 1459 Telephone Equipment

*UL 1950 Information Technology Equipment, Including Electrical Business Equipment

UL 2601-1 Medical Electrical Equipment, Part 1: General Requirements for Safety

Comparable Replacement Standards (if applicable)

UL 60601-1 Medical Electrical Equipment, Part 1: General Requirements for Safety

TUV Rheinland of North America, Inc. (TUV)

(Docket No. NRTL3-92)

Withdrawn or Replaced Standards

UL 1418 Cathode-Ray Tubes

UL 1459 Telephone Equipment

*UL 1950 Information Technology Equipment, Including Electrical Business Equipment

UL 2601-1 Medical Electrical Equipment, Part 1: General Requirements for Safety

Comparable Replacement Standards (if applicable)

UL 60601-1 Medical Electrical Equipment, Part 1: General Requirements for Safety

Underwriters Laboratories Inc. (UL)

(Docket No. NRTL4-93)

Withdrawn or Replaced Standards

ANSI C57.12.57 Ventilated Dry-Type Network Transformers 2500 kVA and Below, Three-Phase

ANSI Z21.1b Household Cooking Gas Appliances

ANSI Z21.12 Draft Hoods

ANSI Z21.45 Flexible Connectors of Other Than All-Metal Construction for Gas Appliances

ANSI Z21.61 Gas-Fired Toilets

ANSI Z83.6 Gas-Fired Infrared Heaters

**UL 9 Fire Tests of Window Assemblies

UL 297 Acetylene Generators, Portable Medium-Pressure

UL 1418 Cathode-Ray Tubes

UL 1459 Telephone Equipment

*UL 1950 Information Technology Equipment, Including Electrical Business Equipment

UL 2601-1 Medical Electrical Equipment, Part 1: General Requirements for Safety

UL 3111-2-31 Hand-Held Probe Assemblies for Electrical Measurement and Test

Comparable Replacement Standards (if applicable)

UL 60601-1 Medical Electrical Equipment, Part 1: General Requirements for Safety

UL 61010B-2-031 Electrical Equipment for Measurement, Control, and Laboratory Use; Part 2: Particular Requirements for Hand-Held Probe Assemblies for Electrical Measurement and Test

Wyle Laboratories, Inc. (WL)

(Docket No. NRTL1-93)

Withdrawn or Replaced Standards

UL 1459 Telephone Equipment

*UL 1950 Information Technology Equipment, Including Electrical Business Equipment

Comparable Replacement Standards (if applicable)

None

*The comparable standard for UL 1950 is UL 60950, which has already been added to each applicable NRTL's recognition through a previous notice (67 FR 30975, 5/8/02).

**This standard is no longer applicable because there is no NRTL approval requirement for windows.

***The NRTL requested recognition for NFPA 505 as a comparable test standard. However, we determined that this standard is not an “appropriate test standard” because it pertains primarily to operation and maintenance, as opposed to testing, of powered industrial trucks.

In accordance with OSHA policy pertaining to recognition of replacement standards, the Agency only publishes one Federal Register notice to note the changes to the NRTL's scope of recognition. Changes to each NRTL's recognition are limited to those described in this notice. All other terms and conditions of each NRTL's

Signed in Washington, DC this 7th day of January, 2005.
Jonathan L. Snare,
Acting Assistant Secretary.

[FR Doc. 05-4431 Filed 3-7-05; 8:45 am]

BILLING CODE 4510-26-M